FEDERAL MARITIME COMMISSION

Ocean Transportation Intermediary License; Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

Reliable Cargo Express Inc., 700 Rockaway Turnpike, Rm. 205, Lawrence, NY 11559,

Officers: Yat Hiwg So, President (Qualifying Individual) Patrick Ko, Vice President

Non-Vessel Operating Common Carrier and Ocean Freight Forwarder Transportation Intermediary Applicants

Clarke Transportation Services, Inc., 2000 Professional Way, Building 100, Woodstock, GA 30188

Officers: Laura J. Patterson, Manager Int'l. Transportation, (Qualifying Individual), Darell, Hornby, President

Distribution I (USA), Inc., 7025 Mission Street, Suite 201, Daly City, CA 94014

Officers: Rebecca Siu Ming Fung, Vice President (Qualifying Individual), Paul Y. W. Lee, President

Trans Circle Inc., 1927 West 139th Street, Gardena, CA 90249

Officers: Seiji Takeuchi, President (Qualifying Individual), Patricia L. Takeuchi, Secretary

Ocean Freight Forwarder—Ocean Transportation Intermediary Applicants

In-House Forwarding LLC, 1011 Derussey Road, New London, OH 44851

Officer: JoAnne Lake, President (Qualifying Individual)

April 5, 2001.
Bryant L. VanBrakle,
Secretary.

[FR Doc. 01-8865 Filed 4-10-01; 8:45 am]

BILLING CODE 6730-01-P